DEPARTMENT OF ENERGY

Federal Energy Regulatory Commission

[Docket No. CP01-388-000]

Transcontinental Gas Pipe Line Corporation; Notice of Intent To Prepare an Environmental Assessment for the Proposed Momentum Expansion Project and Request for Comments on Environmental Issues

June 29, 2001.

The staff of the Federal Energy Regulatory Commission (FERC or Commission) will prepare an environmental assessment (EA) that will discuss the environmental impacts of the Momentum Expansion Project (Momentum Project) involving construction and operation of facilities by Transcontinental Gas Pipe Line Corporation (Transco) in several counties in North Carolina, South Carolina, Georgia, Alabama, and Mississippi.¹ These facilities would consist of about 99.9 miles of 42- and 48-inch diameter pipeline, 78,525 horsepower (hp) of additional compression, and installation of gas coolers at another compressor station. This EA will be used by the Commission in its decision-making process to determine whether the project is in the public convenience and necessity.

¹ Transco's application was filed with the Commission under Section 7 of the Natural Gas Act and part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Transco provided to landowners. This fact sheet addresses a number of typically asked questions, including the use of eminent domain and how to participate in the Commission's proceedings. It is available for viewing on the FERC Internet website (www.ferc.gov).

Summary of the Proposed Project

Transco wants to expand the capacity of its mainline pipeline system in Mississippi, Alabama, Georgia, South Carolina and North Carolina to transport an additional 525,896 dekatherms per day of new firm transportation capacity. Transco seeks authority to construct and operate the following facilities:

• 9.22 miles of 42-inch-diameter pipeline loop from milepost (MP) 632.89 on Transco's mainline in Amite County, Mississippi to MP 642.11 in Pike County, Mississippi (Magnolia Loop).

• 7.90 miles of 42-inch-diameter pipeline loop from MP 732.65 on Transco's mainline in Jones County, Mississippi to MP 740.55 in Jones County (Seminary Loop).

• 16.06 miles of 42-inch-diameter pipeline loop from MP 756.94 on Transco's mainline in Clarke County, Mississippi to MP 773.00 in Clarke County, Mississippi (Hale Loop).

• 30.00 miles of 48-inch-diameter pipeline loop from MP 860.78 on Transco's mainline in Perry County, Alabama to MP 890.78 in Chilton County, Alabama (Jones Loop).

• 3.49 miles of 42-inch-diameter pipeline loop from MP 905.74 on Transco's mainline in Chilton County, Alabama to MP 909.23 in Chilton County, Alabama (Richville Loop).

• 21.54 miles of 42-inch-diameter pipeline loop from MP 926.87 on Transco's mainline in Coosa County, Alabama to MP 948.41 in Tallapoosa County, Alabama (Kellyton Loop).

• 7.51 miles of 42-inch-diameter pipeline loop from MP 1,124.74 on Transco's mainline in Madison County, Georgia to MP 1,132.25 in Elbert County, Georgia (Bowman Loop).

• 4.18 miles of 42-inch-diameter pipeline loop from MP 1,201.71 on Transco's mainline in Spartanburg County, South Carolina to MP 1,205.89 in Spartanburg County, South Carolina (Greenville Loop).

• The installation of one new 15,00 horsepower compressor at Transco's existing Compressor Station No. 90 in Marengo County, Alabama.

• The installation of one new 15,000 horsepower compressor at Transco's existing Compressor Station No. 105 in Coosa County, Alabama.

• The installation of one new 15,000 horsepower compressor at Transco's existing Compressor Station No. 110 in Randolph County, Alabama.

• The uprating of an existing 18,975 horsepower compressor (Unit No. 3) to 22,500 horsepower at Transco's existing Compressor Station No. 115 in Coweta County, Georgia.

• The installation of one new 15,000 horsepower compressor at Transco's existing Compressor Station No. 125 in Walton County, Georgia.

• The installation of gas coolers for existing compressor No. 18 at Transco's existing Compressor Station No. 130 in Madison County, Georgia.

• The installation of one new 15,000 horsepower compressor with gas coolers and the installation of high-pressure fuel injection on existing compressor No. 10 at Transco's existing Compressor Station No. 160 in Rockingham County, North Carolina.

The general location of the project facilities is shown in appendix 1.²

² The appendices referenced in this notice are not being printed in the Federal Register. Copies are available on the Commission's website at the “RIMS” link or from the Commission's Public Reference and Files Maintenance Branch, 888 First Street, NE., Washington, DC 20426, or call (202) 208-1371. For instructions on connecting to RIMS refer to the last page of this notice. Copies of the appendices were sent to all those receiving this notice in the mail.

Land Requirements for Construction

Construction of the proposed loops would require about 1,110 acres of land. Following construction, about 430 acres would be maintained as new pipeline right-of-way. The remaining 680 acres of land would be restored and allowed to revert to its former use.

Installation of new facilities at the eight existing compressor stations would require a total of about 29 acres within the existing facility sites.

The EA Process

The National Environmental Policy Act (NEPA) requires the Commission to take into account the environmental impacts that could result from an action whenever it considers the issuance of a Certificate of Public Convenience and Necessity. NEPA also requires us³ to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We”, “us”, and “ our” refer to the environmental staff of the Office of Energy Projects (OEP).

The EA will discuss impacts that could occur as a result of the construction and operation of the proposed project under these general headings:

• Geology and soils

• Water resources, fisheries, and wetlands

• Vegetation and wildlife

• Endangered and threatened species

• Public safety

• Land use

• Cultural resources

• Air quality and noise

• Hazardous waste

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspaper, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Transco. This preliminary list of issues may be changed based on your comments and our analysis.

• Geology and Soils

— Erosion control and right-of-way restoration.

—Potential for mixing of topsoil and subsoil.

• Water Resources and Wetlands

—A total of 52 perennial waterbodies would be crossed.

—A total of 249 wetlands, including 20.6 acres of forested and 35.5 acres of non-forested wetlands along the construction right-of-way, would be crossed.

• Biological Resources

—Impacts on 34 federally threatened and/or endangered species that may be present in the project area.

—Impacts on about 484 acres of upland forest and scrub-shrub habitat.

• Cultural Resources

—Impacts on prehistoric and historic sites

—Native American concerns

• Land Use

—Impacts on about 504 acres of rangeland.

—Impact on residential areas.

—Visual effects of the aboveground facilities on surrounding areas.

—Impacts on 12 residents within 50 feet of the proposed construction area.

• Air and Noise Quality

—Impacts on local air and noise environment as a result of operation of the new compressors.

• Alternatives

—Evaluate possible alternatives to the proposed project or portions of the project, and make recommendations on how to lessen or avoid impacts on the various resource areas.

• Nonjurisdictional Facilities

—We have made a preliminary decision to not address the impacts of the nonjurisdictional facilities. We will briefly describe their location and status in the EA.

Public Participation

You can make a difference by providing us with specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send original and two copies of your letter to: David P. Boergers, Secretary, Federal Energy Regulatory Commission, 888 First St., N.E., Room 1A, Washington, DC 20426.

• Label one copy of the comments for the attention of Gas/Hydro Group.

• Reference Docket No. CP01-388-000.

• Mail your comments so that they will be received in Washington, DC on or before July 30, 2001.

Comments, protests and interventions may also be filed electronically via the Internet in lieu of paper. See18 CFR 385.2001(a)(1)(iii) and the instructions on the Commission's web site at http://www.ferc.gov under the link to the User's Guide. If you have not yet established an account, you will need to create a new account by clicking on “Login to File” and then “New User Account.”

If you do not want to send comments at this time but still want to remain on our mailing list, please return the Information Request (appendix 3). If you do not return the Information Request, you will be taken off the mailing list.

Becoming an Intervenor

In addition to involvement in the EA scoping process, you may want to become an official party to the proceeding known as an “intervenor”. Intervenors play a more formal role in the process. Among other things, intervenors have the right to receive copies of case-related Commission documents and filing by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this preceeding which would not be adequately represented by any other parties. You do not need intervenor status to have your environmental comments considered.

Additional information about the proposed project is available from the Commission's Office of External Affairs at (202) 208-1088 or on the FERC website (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet webite provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 01-16894 Filed 7-5-01; 8:45 am]

BILLING CODE 6717-01-M